DEPARTMENT OF TRANSPORTATION

Federal Transit Administration

FTA Fiscal Year 2004 Apportionments, Allocations and Program Information; Notice of Supplemental Information, Changes, and Corrections

AGENCY: Federal Transit Administration (FTA), DOT.

ACTION: Notice.

SUMMARY: This notice makes fiscal year (FY) 2004 transit funds available for obligation based on program funding levels authorized by the Surface Transportation Extension Act of 2004 (Pub. L. 108-202), and notes changes and corrections to the FTA notice entitled “FTA Fiscal Year 2004 Apportionments, Allocations and Program Information; Notice,” which was published in the Federal Register on February 11, 2004 (69 FR 6726).

FOR FURTHER INFORMATION CONTACT: The appropriate FTA Regional Administrator or Mary Martha Churchman, Director, Office of Resource Management and State Programs, (202) 366-2053.

I. Funds Available for Obligation

The “Surface Transportation Extension Act of 2004” (Pub. L. 108-202) was signed into law by President Bush on February 29, 2004. The Act provides an extension of programs funded from the Highway Trust Fund, pending enactment of a law reauthorizing the Transportation Equity Act for the 21st Century (TEA-21), and provides contract authority for transit programs from October 1, 2003 through April 30, 2004.

FTA has revised the apportionment and allocation tables published in the February 11, 2004, Federal Register notice to reflect the amount of FY 2004 funding that is currently available for obligation by grantees for the respective FTA program, in accordance with the Surface Transportation Extension Act of 2004, and the Consolidated Appropriations Act, 2004 (Pub. L. 108-199, Division F). The revised tables are attached at the end of this notice.

A column labeled “Apportionment” or “Allocation” in the revised tables includes both trust funds (contract authority) and general funds, and reflects the total dollar amount of obligation limitation and appropriations in the Consolidated Appropriations Act, 2004, once full year contract authority is made available. This amount does not represent the amount that is actually available for obligation at this time. The amount shown in a column labeled “Available Apportionment” or “Available Allocation” is currently available for obligation.

II. Changes to FY 2004 Bus and Bus-Related Project Allocations

Subsequent to publication of the February 11, 2004, Federal Register notice, the Secretary of the Department of Transportation received correspondence from Congress that clarified technical errors for FTA Bus and Bus-Related projects contained in the FY 2004 Conference Report accompanying the Consolidated Appropriations Act, 2004. The clarifications are as follows:

1. Of the $1,000,000 provided for Allegan County Transportations Services, Michigan, the conferees agree that the intended allocation for this project was $40,000. In addition, the conferees agree that $940,000 shall be made available to Kalamazoo Metro Transit, Michigan. The Consolidated Appropriations Act, 2004 provides $80,000 to Berrian County Public Transportation, Michigan. It is the intention of the conferees that a total of $100,000 shall be made available for Berrien County, Michigan.

2. Of the $765,000 allocated for the Berkshire Regional Transit Authority (BRTA) Buses and Fare Boxes, Massachusetts, the conferees would like $600,000 to go to Broome County Hybrid Buses, New York.

3. The conferees indicate that the state identifier should be Missouri for the Kansas project designation “KCATA buses and bus facilities, Kansas.”

4. For the project designation that reads “Los Angeles County, Circulator Buses, California,” the conferees have indicated that the funds designated to Los Angeles County for this purpose should instead go to South Whittier, CA.

5. Of the $2,500,000 designated to the “Pioneer Valley Transit Authority (PVTA) buses, Massachusetts,” project, the conferees would like $100,000 to go to the “Yamill County buses and bus facilities, Oregon” project.

In addition, FTA has corrected an error in the Table 9 list of Bus and Bus-Related projects, in the February 11, 2004, Federal Register notice, to correctly show the “Capital Metro Hybrid Electric Buses, Texas,” project under TX (Texas) instead of MI (Michigan).

FTA has incorporated the clarifications and correction. They are reflected in the revision to Table 9 included with this notice.

III. FTA Corrections

The following corrections are noted to information in the February 11, 2004, Federal Register notice.

• Page 6731, the heading on the table under paragraph F should read “Small urbanized area included in TMA planning boundary.”

• Page 6768, the FY 2002 carryover allocation for the “NY Tompkins Consolidated Area transit center” project should be $57,778 instead of $617,778. The remaining unobligated balance of $560,000 was allocated to the “NY City of Kingston buses” project in the amount of $240,000, and to “NY City of Middletown buses and bus facilities” project in the amount of $320,000, in accordance with clarification provided in the FY 2003 Conference Report accompanying the FY 2003 DOT Appropriations Act. See pages 11955 and 11957 of the FTA Fiscal Year 2003 Apportionments, Allocations and Program Information Notice, dated March 12, 2003.

• Page 6774, the descriptions for the following projects are amended to add the fiscal year of the funds:

• NY Bronx Zoo intermodal transportation facility, 2001

• VT Vermont Agency of Transportation buses and bus facilities, 2001.

Issued on: March 24, 2004.
Jennifer L. Dorn,
Administrator.

BILLING CODE 4910-57-P

[FR Doc. 04-6965 Filed 3-26-04; 8:45 am]

BILLING CODE 4910-57-C